FEDERAL COMMUNICATIONS COMMISSION

Notice of Public Information Collection(s) Being Submitted for Review to the Office of Management and Budget, Comments Requested

July 2, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before August 8, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Jerry Cowden via e-mail at PRA@fcc.gov or at 202-418-0447. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: None.

Title: Information Collection Regarding Redundancy, Resiliency and Reliability of 911 and E911 Networks and/or Systems as set forth in the Commission's Rules (47 CFR 12.3).

Form No.: Not applicable.

Type of Review: New collection.

Respondents: Business or other for-profit.

Number of Respondents and Responses: 74 respondents; 74 responses.

Estimated Time per Response: 105.3 hours (120 hours for local exchange carriers, 72 hours for commercial mobile radio service providers, and 40 hours for interconnected Voice over Internet Protocol service providers).

Frequency of Response: One-time reporting.

Obligation to Respond: Mandatory (47 CFR 12.3).

Total Annual Burden: 7,792 hours.

Total Annual Cost: None.

Privacy Act Impact Assessment: This information collection does not affect individuals or households, and therefore a privacy impact assessment is not required.

Nature and Extent of Confidentiality: These reports will contain sensitive data and, for reasons of national security and the prevention of competitive injury to reporting entities, Section 12.3 of the Commission's rules specifically states that all reports will be afforded confidential treatment. These reports will be shared pursuant to a protective order with only the following three entities, if the entities file a request for the information: The National Emergency Number Association, The Association of Public Safety Communications Officials, and The National Association of State 9-1-1 Administrators. All other access to these reports must be sought pursuant to procedures set forth in 47 CFR 0.461. Notice of any requests for inspection of these reports will be provided to the filers of the reports pursuant to 47 CFR 0.461(d)(3).

Needs and Uses: The Commission, in order to help fulfill its statutory obligation to make wire and radio communications services available to all people in the United States for the purpose of the national defense and promoting safety of life and property, released an Order (FCC 07-107) that adopted a rule requiring analysis of 911 and E911 networks and/or systems and reports to the Commission on the redundancy, resiliency and reliability of those networks and/or systems (47 CFR 12.3). It is critical that Americans have access to a resilient and reliable 911 system irrespective of the technology used to provide the service. These analyses and reports on the redundancy, resiliency, and dependability of 911 and E911 networks and systems will further this goal. This requirement will serve the public interest and further the Commission's statutory mandate to promote the safety of life and property through the use of wire and radio communication. See 47 U.S.C. 151.

This rule obligates local exchange carriers (LECs), commercial mobile radio service (CMRS) providers that are required to comply with the wireless 911 rules set forth in Section 20.18 of the Commission's rules, and interconnected Voice over Internet Protocol (VoIP) service providers to analyze their 911 and E911 networks and/or systems and file a detailed report to the Commission on the redundancy, resiliency and reliability of those networks and/or systems. LECs that meet the definition of a Class B company set forth in Section 32.11(b)(2) of the Commission's rules, non-nationwide commercial mobile radio service providers with no more than 500,000 subscribers at the end of 2001, and interconnected VoIP service providers with annual revenues below the revenue threshold established pursuant to Section 32.11 of the Commission's rules are exempt from this rule. The reports are due 120 days from the date that the Commission or its staff announces activation of the 911/E911 network and system reporting process.

Description of Information Collection: The Commission delegated authority to the Public Safety and Homeland Security Bureau (Bureau) to implement and activate a process through which these reports will be submitted. The Bureau will collect these reports through a Web interface that will input the reports into an electronic database partitioned for each entity type subject to Section 12.3 of the Commission's rules (i.e., LECs, CMRS providers required to comply with section 20.18 of the Commission's rules, and interconnected VoIP service providers). Respondents that are subject to state regulations requiring the reporting of similar information may meet the requirements of section 12.3 by submitting the state report, provided that the state report includes the relevant information required by this section 12.3 information collection. The system will also allow users to provide additional information about the redundancy, resiliency and dependability of their 911 and E911 networks and systems. This data collection system will carefully restrict access to the data. Users will be able to input and see data for their company, but will not be able to see or input data for another company. The system will also allow users to input other information they may wish to provide about the redundancy, resiliency and dependability of their 911 and E911 networks and systems.

The Commission also delegated authority to the Bureau to establish the specific data that will be required. The following is the information that the Bureau will require from LECs, CMRS providers and interconnected VoIP service providers pursuant to Section 12.3.

LECs (including incumbent LECs and competitive LECs). Each LEC will be asked to provide the FCC Registration Number(s) of the responding carrier and the OCN (LERG assigned service provider number) the responding carrier. For each state in which LECs provide service, they will be asked to provide the following information on a state-by-state basis.

LECs will be required to provide information about switches to Selective Routers, specifically, information about those switches that they own or operate. LECs must report the percent of switches that they own or operate in the network from which 911 calls originate. With respect to those switches, LECs must identify the percent of switches with logically diverse paths to their primary Selective Routers. Logical diversity is achieved when redundant circuits are assigned between the source node and the destination node. For switches for which they have not provided or made arrangements for a logically diverse path, LECs must discuss the circumstances, including why logically diverse paths are not provisioned, and any plans to provide logically diverse paths in the future. With respect to those switches that a LEC owns or operates in the network from which 911 calls originate, LECs must also report the percent of switches with physically diverse connections to their primary Selective Routers. Physical diversity is achieved when geographically separated redundant facilities are assigned between the source node and the destination node. For those switches for which LECs have not provided or made arrangements for physically diverse connections, they must discuss the circumstances including why physically diverse paths are not provisioned and any plans to provide physically diverse connections in the future.

LECs must also provide information if they own or operate Selective Routers. They must provide the percent of Selective Routers with at least one alternate Selective Router for at least 50% of the 911 traffic. If they have not provided or made arrangements for alternate selective routers for at least 50% of 911 traffic, they must discuss the circumstances including why an alternate selective router for at least 50% of 911 traffic is not provisioned and any plans to provide an alternate selective router in the future. With respect to Selective Routers to public safety answering points (PSAPs), LECs must provide the following information if they own or operate Selective Routers but only for the PSAPs supported by those Selective Routers. LECs must state the number of PSAPs supported by their Selective Routers and the percent of PSAPs with an alternate (back-up) Selective Router in addition to the primary Selective Router. For those PSAPs for which a LEC has not provided or made arrangements for an alternate (back-up) Selective Router in addition to the primary Selective Router, the LEC needs to discuss the circumstances including why an alternative (back-up) selective router is not provisioned and any plans to provide an alternate (back-up) selective router in the future. LECs must also identify the percent of PSAPs with logically diverse paths to their primary Selective Router. For those PSAPs for which a LEC has not provided or made arrangements for logically diverse paths to the primary Selective Router, they must discuss the circumstances including why logically diverse paths are not provisioned, and any plans to provide logically diverse paths in the future. LECs must also report the percent of PSAPs with physically diverse connections to their primary Selective Router. For those PSAPs for which they have not provided or made arrangements for physically diverse connections to the primary Selective Router, LECs must discuss the circumstances including why physically diverse paths are not provisioned and any plans to provide physically diverse paths in the future.

Further, LECs must report the percent of PSAPs with logically diverse paths to their primary Selective Router in which the interoffice portion of the connections to the primary Selective Router is physically diverse. The interoffice network consists of facilities and transmission equipment that interconnects switching offices in a telecommunications inter-exchange network. For those PSAPs with logically diverse paths to the primary Selective Router for which they have not provided or made arrangements for physical diversity in the interoffice portion of the connections to the primary Selective Routers, LECs must discuss the circumstances including why such physical diversity is not provisioned and any plans to provide such physical diversity in the future. LECs will also need to provide the percent of PSAPs where the connection between the PSAP and the primary Selective Router is physically diverse from the connection between the PSAP and the alternate Selective Router. For those PSAPs for which the connection between the PSAP and the primary Selective Router is not physically diverse from the connection between the PSAP and the alternate Selective Router, LECs must discuss the circumstances including why such physically diverse connections are not provisioned and any plans to provide such physically diverse connections in the future. Finally, LECs must provide the percent of PSAPs where the interoffice portion of the connection from the PSAP to the primary Selective Router is physically diverse from the interoffice portion of the connection from the PSAP to the alternate Selective Router. For those PSAPs where the interoffice portion of the connection from the PSAP to the Selective Router is not physically diverse from the interoffice portion of the connection from the PSAP to the alternate Selective Router, LECs must discuss the circumstances including why such physical diversity is not provisioned and any plans to provide physical diversity in the future.

Additionally, LECs that own or operate Selective Routers must provide information about alternate PSAPs, but only for the PSAPs supported by those Selective Routers. These LECs will be required to provide the percent of PSAPs for which traffic is automatically rerouted to another PSAP if the PSAP is unavailable. For those PSAPs without automatic re-routing, they need to discuss the circumstances including why automatic re-routing to another PSAP is not provisioned and any plans to provide such automatic re-routing in the future.

LECs will also be required to provide specific information if they own or operate Automatic Location Information (ALI) databases. LECs must provide the number of ALI Database pairs (redundant). An ALI database pair is a configuration of two ALI databases that will operate seamlessly even if one of the two databases fails. LECs that own or operate ALI databases will also be required to state the percent of PSAPs supported by ALI database pairs in which the connections from the ALI databases to the PSAP are physically diverse. For those PSAPs supported by ALI database pairs in which the connections from the ALI databases to the PSAP are not physically diverse, LECs must discuss the circumstances including why physically diverse connections are not provisioned and any plans to provide physically diverse connections in the future. LECs that own or operate ALI databases must also provide the percent of PSAPs supported by ALI database pairs in which the interoffice portion of the connections from the ALI databases to the PSAP are physically diverse. For those PSAPs supported by ALI database pairs in which the interoffice portion of the connections from the ALI databases to the PSAP are not physically diverse, they must discuss the circumstances including why such physical diversity is not provisioned and any plans to provide such physical diversity in the future.

CMRS Providers. Each CMRS provider will be asked to provide the FRN of the responding provider and the OCN of the responding provider. CMRS providers must provide information for each area in which the CMRS provider serves.

Regarding Mobile Switching Centers (MSCs) to Selective Routers, CMRS providers must provide information for the MSCs that they own or operate. This information includes the: (1) Percent of MSCs in network that have Phase I E911 capability; (2) percent of MSCs in network that have Phase II E911 capability; and (3) percent of MSCs with logically diverse paths to primary Selective Routers. For those MSCs for which CMRS providers have not provided or made arrangements for logically diverse paths, they are required to discuss the circumstances including why logically diverse paths are not provisioned and any plans to provide logically diverse paths in the future. CMRS providers must also report the percent of MSCs with physically diverse connections to their primary Selective Routers. For those MSCs for which they have not provided or made arrangements for physically diverse connections, CMRS providers must discuss the circumstances including why physically diverse connections are not provisioned and any plans to provide physically diverse connections in the future.

CMRS providers must also provide information about MSCs to Mobile Positioning Centers (MPCs) or Gateway Mobile Location Centers (GMLCs). They must report the percent of MSCs connected to a pair of MPCs/GMLCs. MSCs can be connected to a pair of MPCs/GMLCs for redundancy. In configurations like this, the MSC will continue to provide positioning information even if one of the MPCs/GMLCs suffers an outage. CMRS providers must also state the percent of MSCs with logically diverse paths to their primary MPCs/GMLCs. For MSCs for which they have not provided or made arrangements for logically diverse paths to the primary MPCs/GMLCs, CMRS providers must discuss the circumstances, including why logically diverse paths are not provisioned and any plans to provide logically diverse paths in the future. They must also provide the percent of MSCs with physically diverse connections to their primary MPCs/GMLCs. For those MSCs for which CMRS providers have not provided or made arrangements for physically diverse connections, they must discuss the circumstances including why physically diverse connections are not provisioned and any plans to provide physically diverse connections in the future.

Further, CMRS providers must report the percent of MSCs where the connection from the MSC to the primary MPC/GMLC is physically diverse from the connection to the alternate MPC/GMLC. For those MSCs where the connection from the MSC to the primary MPC/GMLC is not physically diverse from the connection to the alternate MPC/GMLC, providers must discuss the circumstances including why physically diverse connections are not provisioned and any plans to provide physically diverse connections in the future.

CMRS providers that own or operate MPCs/GMLCs must report additional information, including the percent of MPCs/GMLCs for which there is an alternate MPC/GMLC. This question is concerned with the percentage of MPCs/GMLCs that are backed up. An earlier question asked about the percentage of MSCs that are served by a pair of MPCs/GMLCs. Both questions address the redundancy of MPCs/GMLCs but this one addresses MPC/GMLC pairing while the previous one addressed redundant access from MSCs to MPC/GMLC pairs. For those MPCs/GMLCs that do not have alternates, CMRS providers must discuss the circumstances including why alternate MPCs/GMLCs are not provisioned and any plans to provide alternate MPCs/GMLCs in the future. CMRS providers must also state whether they are able to pass location information from more than one MPC/GMLC. For those cases in which they are not able to do so, they must discuss the circumstances including why the capability to pass location information from more than one MPC/GMLC is not provisioned and any plans to provide this capability in the future.

CMRS providers that own or operate MPCs/GMLCs must also report whether there are logically diverse paths from each MPC/GMLC to either the primary ALI database or the back-up ALI database. For those cases where they have not provided or made arrangements for logically diverse paths, CMRS providers must discuss the circumstances including why logically diverse paths are not provisioned and any plans to provide logically diverse paths in the future. Additionally, CMRS providers that own or operate MPCs/GMLCs must state whether there are physically diverse connections from each MPC/GMLC to either the primary ALI database or the back-up ALI database. For those cases where they have not provided or made arrangements for physically diverse connections, they must discuss the circumstances including why physically diverse connections are not provisioned and any plans to provide physically diverse connections in the future.

Interconnected VoIP Service Providers. Each responding interconnected VoIP service provider will be asked to report their FRN, if any, and OCN, if any. Interconnected VoIP providers will have to provide information about interconnection to Selective Routers and third-party providers. They must report the percent of switches wherein 911 service is provided by the interconnected VoIP provider, where the VoIP provider has a direct connection to Selective Routers. Additionally, interconnected VoIP service providers will be required to report the percent of switches wherein 911 service is provided by a third party, where another company is utilized to route 911 calls.

Interconnected VoIP service providers that have direct connections to Selective Routers must report the percent of switches with logically diverse paths to their primary Selective Routers—for cases when the VoIP provider has direct connections to Selective Routers. For switches for which they have not provided or made arrangements for logically diverse paths, they must discuss the circumstances, including why logically diverse connections are not provisioned and any plans to provide logically diverse paths in the future. Interconnected VoIP service providers that have direct connections to Selective Routers must also report the percent of switches with physically diverse connections to their primary Selective Routers. For those switches for which they have not provided or made arrangements for physically diverse connections, they must discuss the circumstances including why physically diverse connections are not provisioned and any plans to provide physically diverse connections in the future.

Interconnected VoIP service providers that use a third party to provide connections to Selective Routers must report the percent of switches with logically diverse paths to their primary access points—for cases when the VoIP provider uses a third party.

For switches for which they have not provided or made arrangements for logically diverse paths to their primary access points, they must discuss the circumstances including why logically diverse paths are not provisioned and any plans to provide logically diverse paths in the future. Interconnected VoIP service providers that use a third party to provide connections to Selective Routers are also required to report the percent of switches with physically diverse connections to their primary access points. For those switches for which they have not provided or made arrangements for physically diverse connections to their primary access points, they must describe the circumstances including why physically diverse connections are not provisioned and any plans to provide physically diverse connections in the future. Responding LECs, CMRS providers and interconnected VoIP service providers must also provide information regarding disaster planning for the resiliency and reliability of 911 architecture. All respondents must state whether they have a contingency plan that addresses the maintenance and restoration of 911/E911 service during and following disasters. If the answer is “yes,” the respondent will be asked to describe its contingency plan including those elements that address the maintenance and restoration of 911/E911 service. If the answer is “no,” the respondent will be asked to discuss the circumstances including why it does not have a contingency plan that addresses 911/E911 maintenance and restoration and any plans to develop such a contingency plan in the future.

Respondents that do have a contingency plan that addresses the maintenance and restoration of 911/E911 service must state whether they regularly test their plan. If respondents answer “yes” to this question, they must describe the program for testing their contingency plan, including the extent to which they periodically test to ensure that the critical components (e.g., automatic re-routes, PSAP Make Busy Key) included in contingency plans work as designed and the extent they involve PSAPs in tests of their contingency plan. Respondents that answer “no” will be asked to discuss the circumstances including why they do not test their contingency plan and any plans to test their plan in the future.

All respondents must state whether they have a routing plan so that, in the case of a lost connection of dedicated transport facilities between the originating switch/MSC and the Selective Router, 911 calls are routed over alternate transport facilities. Respondents that answer “yes” must describe their routing plan. Respondents that answer “no” must discuss the circumstances and any plans to develop such a plan in the future.

All responding LECs, CMRS providers and interconnected VoIP service providers must state whether, in cases where 911 service is disrupted, they make test calls to assess the impact as part of the restoration process. If the answer is “no,” respondents must discuss the circumstances including why they do not make test calls as part of the restoration process and any plans to do so in the future. Respondents must also state whether their company makes additional test calls when service is restored and, if not, they must discuss why they do not make additional test calls.

All respondents must describe any current plans they have to migrate to next generation 911 (NG911) architecture once a standard for NG911 has been developed. Finally, respondents are asked to provide any additional relevant information regarding steps they have taken to ensure redundancy, resiliency and reliability of their 911/E911 facilities.

Federal Communications Commission.
William F. Caton,
Deputy Secretary.

[FR Doc. E8-15586 Filed 7-8-08; 8:45 am]

BILLING CODE 6712-01-P